DEPARTMENT OF THE INTERIOR

National Park Service

60-Day Notice of Intention To Request Clearance of Collection of Information; Opportunity for Public Comment

AGENCY: Department of the Interior, National Park Service.

ACTION: Notice and request for comments.

SUMMARY: Under the provisions of the Paperwork Reduction Act of 1995 and 5 CFR part 1320, Reporting and Record Keeping Requirements, the National Park Service (NPS) invites public comments on a proposed new collection of information (1024-xxxx).

DATES: Public comments will be accepted on the proposed Information Collection Request (ICR) on or before July 6, 2009.

ADDRESSES: Send Comments To: David K. Loomis, Ph.D., Department of Natural Resources Conservation, University of Massachusetts, 160 Holdsworth Way, Amherst, MA 01003: or via phone at Phone: 413/545-6641, or via e-mail at: Loomis@nrc.umass.edu. Also, you may send comments to Dr. James Gramann, NPS Social Science Program, 1201 “Eye” St. (2300), Washington, DC 20005 or via e-mail at James_Gramann@partner.nps.gov. All responses to this notice will be summarized and included in the request for the Office of Management and Budget (OMB) approval. All comments will become a matter of public record.

To Request a Draft of Proposed Collection of Information Contact: David K. Loomis, Ph.D., Department of Natural Resources Conservation, University of Massachusetts, 160 Holdsworth Way, Amherst, MA 01003: or via phone at Phone: 413/545-6641, or via e-mail at: Loomis@nrc.umass.edu; or Cliff McCreedy, Marine Resource Management Specialist, National Park Service, 1201 Eye Street, NW., 11th Floor (2301), Washington, DC 20005; or via phone at 202/513-7164, or via e-mail at cliff_mccreedy@nps.gov.

FOR FURTHER INFORMATION CONTACT: Dr. James Gramann, NPS Social Science Program, 1201 “Eye” St. (2300), Washington, DC 20005; or via phone at 202/513-7189; or via e-mail at James_Gramann@partner.nps.gov. You are entitled to a copy of the entire ICR package free of charge.

SUPPLEMENTARY INFORMATION: Title: Social Science Assessment and Geographic Analysis of Marine Recreational Uses and Visitor Attitudes at Dry Tortugas and Biscayne National Parks.

Bureau Form Number: None.

OMB Number: To be requested.

Expiration Date: To be requested.

Type of Request: New Collection.

Description of Need: The National Park Service (NPS) Act of 1916, 38 Stat 535, 16 USC 1, et seq., requires that the NPS preserve national parks for the use and enjoyment of present and future generations. The National Park Service is developing a visitor-focused program to reduce recreational impacts on marine resources in certain ocean units of the National Park System. The program aims to remove and mitigate degradation of ocean resources by enabling visitors to avoid boat grounding, anchor damage, fishing violations, wildlife disturbance, invasive species introduction, pollution and other impacts from boating, fishing, scuba diving, snorkeling and kayaking. Coral reefs, seagrass beds, fish, birds, marine mammals and other sensitive habitats and wildlife are particularly vulnerable to damage or disturbance. However, most visitors will use marine resources responsibly if provided appropriate information and navigational tools to encourage safe and environmentally sound behavior. Dry Tortugas National Park (DRTO) has adopted various anchoring or fishing prohibitions, and Biscayne National Park (BISC) is developing a Fisheries Management Plan and amendments to the Park General Management Plan. In order to succeed, these measures require a full understanding of local visitor use patterns and attitudes and a strategy to incorporate this information into resource management, education and enforcement efforts. The project will survey visitor attitudes, perceptions and beliefs concerning marine resources and provide a geospatial assessment of geographic locations of visitor uses at DRTO and BISC. The reports will be used to assess levels and patterns of recreational uses in these parks and develop and evaluate strategic communication efforts. This information will support efforts to address marine recreational impacts on sensitive habitats and marine resources, and guide strategies to reduce these impacts through education and outreach, navigational aids, and enhanced compliance with rules and regulations, working closely with the public and marine recreational communities.

Automated data collection: This information will be collected by identifying voluntary participants and providing surveys to be completed and returned via postal mail or electronic mail.

Description of respondents: Visitors to Biscayne and Dry Tortugas National Parks, Florida who visit between February 1st, 2010 and November 1st, 2010.

Estimated average number of respondents: We will contact 5,000 individuals stratified by month and expect 2,500 or 50 percent, to agree to respond.

Estimated average number of responses: We expect to collect 2,500 completed surveys.

Estimated average burden hours per response: 3 minutes for non-respondents and 23 minutes for respondents.

Frequency of Response: 1 time per respondent.

Estimated total annual reporting burden: 1,083 hours.

Comments are invited on: (1) The practical utility of the information being gathered; (2) the accuracy of the burden hour estimate; (3) ways to enhance the quality, utility, and clarity of the information to be collected; and (4) ways to minimize the burden to respondents, including use of automated information techniques or other forms of information technology. Before including your address, phone number, e-mail address, or other personal identifying information in your comment—may be made publicly available at any time. While you can ask us in your comment to withhold your personal identifying information from public review, we cannot guarantee that we will be able to do so.

Dated: April 29, 2009.
Cartina Miller,
NPS, Information Collection Clearance Officer.

[FR Doc. E9-10482 Filed 5-5-09; 8:45 am]

BILLING CODE 4312-52-P